ENVIRONMENTAL PROTECTION AGENCY

[EPA-HQ-OAR-2014-0548; FRL 10005-92-OMS]

Information Collection Request Submitted to OMB for Review and Approval; Comment Request; Reformulated Gasoline and Conventional Gasoline: Requirements for Refiners, Oxygenate Blenders, and Importers of Gasoline; Requirements for Parties in the Gasoline Distribution Network (Renewal)

AGENCY: Environmental Protection Agency (EPA).

ACTION: Notice.

SUMMARY: The Environmental Protection Agency (EPA) has submitted an information collection request (ICR), Reformulated Gasoline and Conventional Gasoline: Requirements for Refiners, Oxygenate Blenders, and Importers of Gasoline; Requirements for Parties in the Gasoline Distribution Network (EPA ICR Number 1591.27, OMB Control Number 2060-0277) to the Office of Management and Budget (OMB) for review and approval in accordance with the Paperwork Reduction Act (PRA). This is a proposed extension of the ICR, which is currently approved through May 31, 2020. Public comments were previously requested via the Federal Register on August 20, 2019 during a 60-day comment period. This notice allows for an additional 30 days for public comment. A fuller description of the ICR is given below, including its estimated burden and cost to the public. An agency may not conduct, or sponsor and a person is not required to respond to a collection of information unless it displays a currently valid OMB control number.

DATES: Additional comments must be submitted on or before June 22, 2020.

ADDRESSES: Submit your comments to EPA, referencing Docket ID No. EPA-HQ-OAR-2014-0548, online using www.regulations.gov (our preferred method), by email to a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Jose Solar, Compliance Division, Office of Transportation and Air Quality, (Mail Code 6405A), Environmental Protection Agency, 1200 Pennsylvania Ave. NW, Washington, DC 20460; telephone number: 202-343-9027; fax number: 202-343-2801; email address: Solar.Jose@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The regulations at 40 CFR 80 require gasoline be reformulated to reduce toxic and ozone-forming emissions. The regulations also contain reporting and recordkeeping requirements for the production, importation, transport and storage of gasoline, in order to demonstrate compliance and facilitate compliance and enforcement. For example, refiners must report on the benzene content of gasoline and other properties. Information claimed as confidential is handled in accordance with EPA Freedom of Information Act regulations at 40 CFR part 2. Electronic files received by the Agency are stored in a secure data base.

Form Numbers: RFG0302, RFG0303, RFG0400, RFG0500, RFG0800, RFG0900, RFG1000, RFG1200, RFG1300, RFG1400, RFG1600, RFG1700, RFG1800, RFG1900, RFG2000, RFG2200, RFG2500, 3520-27, GSF0402, 5900-321. All information about registration and links to reporting forms and the URF standard reporting template are available at https://www.epa.gov/fuels-registration-reporting-and-compliance-help.

Respondents/affected entities: Refiners, importers, terminals, pipelines, truckers and other distributors and retailers/wholesale purchase-consumers. Some refiners are importers but that is not always the case.

Respondent's obligation to respond: Mandatory per 40 CFR part 80.

Estimated number of respondents: 4,281.

Frequency of response: Quarterly, annually, or on occasion.

Total estimated burden: 126,846 hours (per year). Burden is defined at 5 CFR 1320.03(b).

Total estimated cost: $39,450,368 (per year), includes $24,713,032 annualized capital or operation & maintenance costs.

Changes in Estimates: The burden estimate for each of the listed categories has a slight reduction of 400 hours and one fewer report compared to the existing clearance; these are due to the expiration of the provision allowing for the submittal of a Foreign Refinery Baseline Petition. Thus, there is a decrease of the estimated burden hours from 127,246 currently identified in the OMB Inventory of Approved ICR Burdens to 126,846 hours and a decrease in the number of reports from 54,078 to 54,076.

Courtney Kerwin,
Director, Regulatory Support Division.

[FR Doc. 2020-11066 Filed 5-21-20; 8:45 am]

BILLING CODE 6560-50-P